FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[September 1, 2016 Thru September 30, 2016]
09/01/2016
20161610 | G | S&P Global Inc.; Dr. Gary N. Ross; S&P Global Inc.
20161656 | G | FR XIII Charlie AIV, L.P.; Chesapeake Energy Corporation; FR XIII Charlie AIV, L.P.
20161662 | G | Exelon Corporation; Entergy Corporation; Exelon Corporation.
09/06/2016
20160982 | G | Eugenie Patri Sabastien EPS, SA; Mountain View Brewery, LLC; Eugenie Patri Sabastien EPS, SA.
20160984 | G | Jorge Paulo Lemann; Mountain View Brewery, LLC; Jorge Paulo Lemann.
20161430 | G | Oak Hill Capital Partners IV (Onshore), L.THRUP.; Oxford Networks Holdings, Inc.; Oak Hill Capital Partners IV (Onshore), L.P.
20161582 | G | Mr. Shi Yuzhu; Hamlet Holdings LLC; Mr. Shi Yuzhu.
20161584 | G | Scopia PX LLC; Forest City Realty Trust, Inc.; Scopia PX LLC.
20161586 | G | The Scopia International Trust; Forest City Realty Trust, Inc.; The Scopia International Trust.
20161587 | G | Avnet, Inc.; Premier Farnell plc; Avnet, Inc.
20161591 | G | Mitsubishi UFJ Financial Group, Inc.; Guggenheim Capital, LLC; Mitsubishi UFJ Financial Group, Inc.
20161599 | G | Krona Acquisition S. a. r. l.; Sami Sagol; Krona Acquisition S. a. r. l.
20161600 | G | Krona Acquisition S. a. r. l.; Itzhak Sagol; Krona Acquisition S. a. r. l.
20161625 | G | James L. Dolan and Kristin A. Dolan; The Madison Square Garden Company; James L. Dolan and Kristin A. Dolan.
20161628 | G | Carlyle Europe Technology Partners III, L.P.; Clearlake Capital Partners II, L.P.; Carlyle Europe Technology Partners III, L.P.
20161637 | G | Verizon Communications Inc.; Fleetmatics Group PLC; Verizon Communications Inc.
20161658 | G | Golden Gate Capital Opportunity Fund, L.P.; Levine Leichtman Capital Partners IV, L.P.; Golden Gate Capital Opportunity Fund, L.P.
20161664 | G | Genstar Capital Partners VII, L.P.; Marlin Equity III, L.P.; Genstar Capital Partners VII, L.P.
20161670 | G | Vincent Johnson; Takata Corporation; Vincent Johnson.
20161674 | G | Teleperformance S.A.; ABRY Partners IV, L.P.; Teleperformance S.A.
20161675 | G | Bravo TopCo LP; WSHP JLL Holdings, LLC; Bravo TopCo LP.
20161677 | G | Ares Corporate Opportunities Fund IV, L.P.; Smart & Final Stores, Inc.; Ares Corporate Opportunities Fund IV, L.P.
20161678 | G | Ares Corporate Opportunities Fund III, L.P.; Smart & Final Stores, Inc.; Ares Corporate Opportunities Fund III, L.P.
20161679 | G | Holly Energy Partners, L.P.; HollyFrontier Corporation; Holly Energy Partners, L.P.
20161682 | G | GTCR Fund XI/B LP; Richard Hogrefe, Ph.D.; GTCR Fund XI/B LP.
20161684 | G | TA NIPA Parent, LLC; Vizient, Inc.; TA NIPA Parent, LLC.
20161685 | G | LSF9 Pharaoh LP; Sterling Group Partners III, L.P.; LSF9 Pharaoh LP.
20161694 | G | Mill Road Capital II, L.P.; Skullcandy, Inc.; Mill Road Capital II, L.P.
09/07/2016
20161422 | G | OSI Systems, Inc.; American Science and Engineering, Inc.; OSI Systems, Inc.
20161619 | G | Lonza Group Ltd.; Kainos Capital Partners, L.P.; Lonza Group Ltd.
20161640 | G | Baker Brothers Life Sciences, L.P.; Seattle Genetics, Inc.; Baker Brothers Life Sciences, L.P.
20161660 | G | Palladium Equity Partners IV, L.P.; Del Real, LLC; Palladium Equity Partners IV, L.P.
20161683 | G | Aurora Equity Partners V L.P.; Lab Holdings, Inc.; Aurora Equity Partners V L.P.
09/08/2016
20161681 | G | American Securities Partners VII, L.P.; Graham Partners III, L.P.; American Securities Partners VII, L.P.
09/09/2016
20161646 | G | TPG VII DE AIV II, LP; ABRY Partners VI, L.P.; TPG VII DE AIV II, LP.
09/12/2016
20161650 | G | General Electric Company; Bonsall Hart; General Electric Company.
20161668 | G | ZF Friedrichshafen AG; Haldex AB; ZF Friedrichshafen AG.
20161688 | G | New Mountain Partners III Cayman (AIV-B), L.P.; New Mountain Partners III, L.P.; New Mountain Partners III Cayman (AIV-B), L.P.
20161695 | G | Sheehy Auto Stores, Inc.; Ronald F. Rosner; Sheehy Auto Stores, Inc.
09/13/2016
20161653 | G | Celgene Corporation; Dr. Erich Hunziker; Celgene Corporation.
20161697 | G | Koch Industries, Inc.; Golden Gate Capital Opportunity Fund, L.P.; Koch Industries, Inc.
20161714 | G | Z Capital Affinity Holdings, LLC; Affinity Gaming, LLC; Z Capital Affinity Holdings, LLC.
20161721 | G | Pilot Corporation; PFJ Southeast LLC; Pilot Corporation.
09/14/2016
20161717 | G | AEA Investors Small Business Fund III LP; Transgroup Express Seller, Inc.; AEA Investors Small Business Fund III LP.
20161720 | G | Carlyle U.S. Equity Opportunity Fund II, L.P.; Nielsen Holdings plc; Carlyle U.S. Equity Opportunity Fund II, L.P.
09/15/2016
20160740 | G | Nexstar Broadcasting Group, Inc.; Media General, Inc.; Nexstar Broadcasting Group, Inc.
20161709 | G | UnitedHealth Group Incorporated; UANT Ventures, L.P.; UnitedHealth Group Incorporated.
09/16/2016
20161638 | G | Aristeia International Limited; Yahoo! Inc.; Aristeia International Limited.
20161705 | G | Post Holdings, Inc.; National Pasteurized Eggs, Inc.; Post Holdings, Inc.
09/19/2016
20161680 | G | Xylem, Inc.; The Resolute SIE, L.P.; Xylem, Inc.
20161686 | G | Wells Fargo & Company; Harindra de Silva; Wells Fargo & Company.
20161710 | G | ValueAct Capital Master Fund, L.P.; Seagate Technology plc; ValueAct Capital Master Fund, L.P.
20161730 | G | Paine & Partners Capital Fund IV, L.P.; Inverness Graham Investments II, L.P.; Paine & Partners Capital Fund IV, L.P.
20161734 | G | Boral Limited; Bricks Holdings LLC; Boral Limited.
20161735 | G | LSF9 Stardust Holdings, LP; Bricks Holdings LLC; LSF9 Stardust Holdings, LP.
20161736 | G | The Southern Company; Calpine Corporation; The Southern Company.
20161738 | G | Roark Capital Partners IV AIV I-U, LP; James John Liautaud; Roark Capital Partners IV AIV I-U, LP.
20161741 | G | EOG Resources, Inc.; Yates Petroleum Corporation; EOG Resources, Inc.
20161746 | G | Pioneer Super Holdings, Inc.; Spectrum Tracer Services, LLC; Pioneer Super Holdings, Inc.
09/20/2016
20161711 | G | GI Partners Fund IV L.P.; Pamlico Capital III, L.P.; GI Partners Fund IV L.P.
20161731 | G | Kainos Capital; The Thomas H. Brown Family Trust; Kainos Capital.
20161732 | G | Kainos Capital; The Jerry P. Brown Family Trust; Kainos Capital.
20161737 | G | TSG7 A L.P.; GI Partners Fund II, L.P.; TSG7 A L.P.
09/21/2016
20161751 | G | Filtration Group Equity LLC; Essentra plc; Filtration Group Equity LLC.
20161752 | G | Tailwind Capital Partners II, L.P.; Corinthian Equity Fund, L.P.; Tailwind Capital Partners II, L.P.
20161757 | G | LSF9 Stardust Holdings, LP; Roxanne Fie Anderson; LSF9 Stardust Holdings, LP.
09/22/2016
20160301 | S | TDK Corporation; Hutchinson Technology Incorporated; TDK Corporation
09/23/2016
20161583 | G | LogMeIn, Inc.; Citrix Systems, Inc.; LogMeIn, Inc.
20161696 | G | Phillips 66; Chevron Corporation; Phillips 66.
20161756 | G | Diane M. Hendricks; USG Corporation; Diane M. Hendricks.
20161762 | G | Seismic Holding LLC; Energy Future Holdings Corp.; Seismic Holding LLC.
20161763 | G | Sinocare Inc.; Shenzhen Xinnuo Health Industry Investment Limited; Sinocare Inc.
20161770 | G | Hangzhou Liaison Interactive Information Technology Co., Ltd; Fred Chang; Hangzhou Liaison Interactive Information Technology Co., Ltd.
20161771 | G | Koch Industries, Inc.; Energy Future Holdings Corp.; Koch Industries, Inc.
20161774 | G | Clayton Dubilier & Rice Fund IX, L.P.; Medical Depot Holdings, Inc.; Clayton Dubilier & Rice Fund IX, L.P.
20161775 | G | Patriot Supply Holdings, Inc.; CHS Private Equity V LP; Patriot Supply Holdings, Inc.
20161777 | G | Green Plains, Inc.; Stone Canyon Industries II, Inc.; Green Plains, Inc.
20161784 | G | John Bean Technologies Corporation; Michael E. Miller; John Bean Technologies Corporation.
20161791 | G | Canada Pension Plan Investment Board; Star Atlantic Waste Holdings, L.P.; Canada Pension Plan Investment Board.
20161798 | G | Parexel International Corporation; Maria Larson; Parexel International Corporation.
09/26/2016
20161667 | G | Oracle Corporation; NetSuite Inc.; Oracle Corporation.
20161747 | G | Arch Capital Group Ltd.; American International Group, Inc.; Arch Capital Group Ltd.
20161753 | G | Astellas Pharma Inc.; Cytokinetics, Incorporated; Astellas Pharma Inc.
09/27/2016
20161764 | G | International Flavors & Fragrances Inc.; David Michael & Co., Inc 2015 Voting Trust; International Flavors & Fragrances Inc.
20161776 | G | Crestview Partners III, L.P.; Accuride Corporation; Crestview Partners III, L.P.
20161789 | G | ArcLight Energy Partners Fund VI, L.P.; GS Road Investors, L.L.C.; ArcLight Energy Partners Fund VI, L.P.
09/28/2016
20161698 | G | Easterly Acquisition Corp; Sungevity, Inc.; Easterly Acquisition Corp.
20161779 | G | Vantage Energy Investment II, LLC; Vantage Energy Investment, LLC; Vantage Energy Investment II, LLC.
20161785 | G | TPG Partners VII-AIV II, L.P.; Codan Trust Company (Cayman) Limited; TPG Partners VII-AIV II, L.P.
20161788 | G | Canada Pension Plan Investment Board; Codan Trust Company (Cayman) Limited; Canada Pension Plan Investment Board.
09/29/2016
20161733 | G | Inception Topco, Inc.; Rackspace Hosting, Inc.; Inception Topco, Inc.
20161754 | G | Starboard Value and Opportunity Fund Ltd.; Perrigo Company plc; Starboard Value and Opportunity Fund Ltd.
20161755 | G | Starboard Leaders Fund LP; Perrigo Company plc; Starboard Leaders Fund LP.
20161766 | G | R. Daniel Peed; United Insurance Holdings Corp.; R. Daniel Peed.
20161767 | G | United Insurance Holdings Corp.; R. Daniel Peed; United Insurance Holdings Corp.
20161768 | G | Warburg Pincus Private Equity XII, L.P.; Intelligent Medical Objects, Inc.; Warburg Pincus Private Equity XII, L.P.
09/30/2016
20161729 | G | New Mountain Partners IV, L.P.; Comvest Investment Partners III, LP; New Mountain Partners IV, L.P.
20161780 | G | Cap Vest Equity Partners III, L.P.; Mallinckrodt plc; Cap Vest Equity Partners III, L.P.
20161805 | G | Nucor Corporation; David Grohne; Nucor Corporation.
20161807 | G | The Goldman Sachs Group, Inc.; Gryphon Partners 3.5, L.P.; The Goldman Sachs Group, Inc.
20161808 | G | Beijing Miteno Communication Technology; Zhiyong Zhang; Beijing Miteno Communication Technology.

FOR FURTHER INFORMATION CONTACT: Theresa Kingsberry Program Support Specialist, Federal Trade Commission Premerger Notification Office Bureau of Competition, Room CC-5301, Washington, DC 20024, (202) 326-3100.

By direction of the Commission.
Donald S. Clark,
Secretary.

[FR Doc. 2016-28473 Filed 11-25-16; 8:45 am]

BILLING CODE 6750-01-P